DEPARTMENT OF AGRICULTURE

Forest Service

Notice of Lincoln County Resource Advisory Committee Meeting

AGENCY: Forest Service, USDA.

ACTION: Notice of change in meeting date.

SUMMARY: Pursuant to the authorities in the Federal Advisory Committee Act (Pub. L. 92-463) and under the Secure Rural Schools and Community Self-Determination Act of 2000 (Pub. L. 106-393) the Kootenai National Forests' Lincoln County Resource Advisory Committee meeting date has been changed to March 10, 2004 at 6 p.m. in Libby, Montana for the business meeting. Meetings are open to the public.

DATES: March 10, 2004 (changed from March 3).

ADDRESSES: This meeting will be held at the Forest Supervisor's Office, 1101 US Highway 2 West, Libby, Montana.

FOR FURTHER INFORMATION CONTACT: Barbara Edgmon, Committee Coordinator, Kootenai National Forest at (406) 293-6211, or e-mail bedgmon@fs.fed.us.

SUPPLEMENTARY INFORMATION: Agenda topics include discussions on Forest Service recreation projects that may need funding, RAC logo and receiving public comment. If the meeting date or location is changed, notice will be posted in the local newspapers, including the Daily Interlake based in Kalispell, MT.

Dated: February 24, 2004.
Bob Castaneda,
Forest Supervisor.

[FR Doc. 04-4658 Filed 3-4-04; 8:45 am]

BILLING CODE 3410-11-M